DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Elmore County, Alabama, and Incorporated Areas
Docket No.: FEMA-D-7826
Alabama River | At U.S. Highway 82 | +161 | City of Prattville.
| Where Interstate 65 crosses Still Creek | +163 |
Coosa River | 810 feet upstream of confluence with Taylor Creek | +180 | City of Wetumpka.
| 800 feet upstream of confluence with Taylor Creek | +180 |
Coosada Creek | 4,270 feet downstream of Springdale Road | +202 | City of Millbrook.
| On Springdale Road | +216 |
Coosada Creek | 685 feet upstream of Airport Road | +201 | Town of Coosada.
| 695 feet upstream of Airport Road | +201 |
Cottonford Creek | 4,590 feet downstream of Deatsville Highway | +261 | City of Millbrook.
| 2,760 feet downstream of Deatsville Highway | +269 |
Cottonford Creek | 290 feet upstream of confluence with Mortar Creek | +169 | Town of Coosada.
| 300 feet upstream of confluence with Mortar Creek | +169 |
Crescant Lake | 2,600 feet upstream of Interstate 65 on Still Creek | +164 | City of Millbrook.
| 2,610 feet upstream of Interstate 65 on Still Creek | +164 |
Grandview Branch | 2,780 feet downstream of State Highway 14 | +271 | City of Millbrook.
| 260 feet downstream of State Highway 14 | +304 |
Gravel Pit Creek | Under U.S. 231 | +170 | Unincorporated Areas of Elmore County.
| 5,890 feet upstream of U.S. 231 | +319 |
Jackson Branch | 390 feet west of Sandtown Road and Phillips Drive | +165 | City of Millbrook.
| 410 feet downstream of Louisville and Nashville RR on Alabama River | +165 |
Jackson Branch | 1,270 feet downstream of confluence with Zion Branch | +165 | Town of Coosada.
| 1,280 feet downstream of confluence with Zion Branch | +165 |
Lewis Creek | 740 feet downstream of Friendship Road | +234 | City of Tallassee.
| 1,370 feet upstream of Friendship Road | +316 |
Mill Creek | 110 feet downstream of Old Mill Run | +213 | City of Millbrook.
| 120 feet downstream of Old Mill Run | +213 |
Mill Creek Tributary | 350 feet upstream of confluence with Mill Creek | +206 | City of Millbrook.
| 1,480 feet upstream of confluence with Mill Creek | +208 |
Mortar Creek | 710 feet downstream of confluence with Cottonford Creek | +168 | Town of Coosada.
| At confluence with Cottonford Creek | +169 |
Still Creek | 210 feet downstream of Edgewood Road | +174 | City of Millbrook.
| 470 feet upstream of Edgewood Road | +185 |
* National Geodetic Vertical Datum.
+ North American Vertical Datum.
# Depth in feet above ground.
ADDRESSES
City of Millbrook
Maps are available for inspection at 3390 Main Street, Millbrook, AL 36054.
City of Prattville
Maps are available for inspection at 101 West Main Street, Prattville, AL 36067.
City of Tallassee
Maps are available for inspection at 3 Freeman Avenue, Tallassee, AL 36078.
City of Wetumpka
Maps are available for inspection at 212 S. Main Street, Wetumpka, AL 36067.
Town of Coosada
Maps are available for inspection at 5800 Coosada Road, Coosada, AL 36020.
Unincorporated Areas of Elmore County
Maps are available for inspection at 100 Commerce Street, Room 207, Wetumpka, AL 36092.
Waukesha County, Wisconsin, and Incorporated Areas
Docket No.: FEMA-B-7715
Ashippun River | At Pennsylvania Avenue | *854 | Waukesha County (Unincorporated Areas).
| Ashippun Lake | *871 |
| At Norwegian Road | *915 |
Bark River | Drumlin Trail | *848 | Waukesha County (Unincorporated Areas), City of Delafield, Village of Dousman, Village of Hartland, Village of Merton.
| At North Road | *973 |
Butler Ditch | Hampton Road | *750 | City of Brookfield.
| Lilly Road | *757 |
Deer Creek | Pinehurst Drive | *837 | City of New Berlin, City of Brookfield.
| Harcove Drive | *870 |
Dousman Ditch | Gebhardt Road | *825 | City of Brookfield.
| Lake Road | *831 |
Fox River | River Road | *827 | Village of Menomonee Falls, City of Brookfield.
| Lannon Road | *886 |
Lake Nagawicka | Lake Nagawicka | *893 | City of Delafield.
Mukwonago River | South Rochester Street | *786 | Waukesha County (Unincorporated Areas), Village of Mukwonago.
| Eagle Springs Lake | *822 |
Pewaukee Lake | Pewaukee Lake | *854 | Village of Pewaukee.
Quietwood Creek | Woods Road | *781 | City of Muskego.
| Janesville Road | *800 |
Rosenow Creek | Lake Street | *861 | Waukesha County (Unincorporated Areas), City of Oconomowoc.
| Brown Street | *873 |
South Branch | Bugline Trail | *941 | Waukesha County (Unincorporated Areas).
Sussex Creek | Mary Hill Road | *955 | Village of Sussex.
South Branch Underwood Creek | At Interstate I-94 | *723 | City of Brookfield.
Sussex Creek | Duplainville Road | *835 | Village of Sussex.
| Main Street | *924 | City of Pewaukee, Waukesha County (Unincorporated Areas).
Sussex Creek Tributary 1 | Weyer Road | *845 | Waukesha County (Unincorporated Areas).
| Lisbon Road | *859 |
Underwood Creek | UPS Service Road | *724 | City of Brookfield, Village of Elm Grove.
| Pilgrim Road | *819 |
Upper Namahbin Lake | Upper Namahbin Lake | *874 | Waukesha County (Unincorporated Areas).
Upper/Lower Phantom Lake | Upper/Lower Phantom Lake | *794 | Waukesha County (Unincorporated Areas).
* National Geodetic Vertical Datum.
+ North American Vertical Datum.
# Depth in feet above ground.
ADDRESSES
City of Brookfield
Maps are available for inspection at 2000 N. Calhoun Road, Brookfield, WI 53005.
City of Delafield
Maps are available for inspection at 500 Genesee Street, Delafield, WI 53018.
City of Muskego
Maps are available for inspection at W182 S8200 Racine Avenue, Muskego, WI 53150-0749.
City of New Berlin
Maps are available for inspection at 3805 South Casper Drive, New Berlin, WI 53151.
City of Oconomowoc
Maps are available for inspection at 174 E. Wisconsin Avenue, Oconomowoc, WI 53066.
City of Pewaukee
Maps are available for inspection at W240 N3065 Pewaukee Road, Pewaukee, WI 53072.
Waukesha County (Unincorporated Areas)
Maps are available for inspection at 515 W. Moorland Blvd., Waukesha, WI 53188.
Village of Dousman
Maps are available for inspection at 118 S. Main Street, Dousman, WI 53118.
Village of Elm Grove
Maps are available for inspection at 13600 Juneau Blvd., Elm Grove, WI 53122.
Village of Hartland
Maps are available for inspection at 210 Cottonwood Avenue, Hartland, WI 53029.
Village of Menomonee Falls
Maps are available for inspection at W156 N8480 Pilgrim Road, Menomonee Falls, WI 53051-3140.
Village of Merton
Maps are available for inspection at 28343 Sussex Road, Merton, WI 53056.
Village of Mukwonago
Maps are available for inspection at 440 River Crest Court, Mukwonago, WI 53149.
Village of Pewaukee
Maps are available for inspection at 235 Hickory Street, Pewaukee, WI 53072.
Village of Sussex
Maps are available for inspection at N64 W23760 Main Street, Sussex, WI 53089.

(Catalog of Federal Domestic Assistance No. 97.022, “Flood Insurance.”)

Dated: May 28, 2008.
David I. Maurstad,
Federal Insurance Administrator of the National Flood Insurance Program, Department of Homeland Security, Federal Emergency Management Agency.

[FR Doc. E8-13199 Filed 6-11-08; 8:45 am]

BILLING CODE 9110-12-P